DEPARTMENT OF DEFENSE

Department of the Army

Performance Review Board Membership

AGENCY: Department of the Army, DoD.

ACTION: Notice.

SUMMARY: Notice is given of the names of members of a Performance Review Board for the Department of the Army.

DATES: Applicable Date: November 13, 2020.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Lisha Adams, Executive Deputy to the Commanding General, U.S. Army Materiel Command, Redstone Arsenal, AL

2. Ms. Christina Altendorf, Chief, Engineering and Construction Division, U.S. Army Corps of Engineers, Washington, DC

3. Mr. Stephen Austin, Assistant Chief of the Army Reserve, Office of the Chief of Army Reserve, Washington, DC

4. Mr. Mark Averill, Deputy Administrative Assistant to the Secretary of the Army & Director Resources and Program Agency, Office of the Administrative Assistant to the Secretary of the Army, Washington, DC

5. Dr. David Bridges, Senior Research Scientist (Environmental Science), U.S. Army Corps of Engineers, Vicksburg, MS

6. Mr. William Brinkley, Deputy Chief of Staff, G-1/4 (Personnel And Logistics), U.S. Army Training and Doctrine Command, Fort Eustis, VA

7. LTG Gary Brito, Deputy Chief of Staff, Office of the Deputy Chief of Staff, G-1, Washington, DC

8. Ms. Kimberly Buehler, Director, Army Office of Small Business Programs, Office of the Secretary of the Army, Washington, DC

9. Ms. Carol Burton, Director, Civilian Human Resources Agency, Office of the Deputy Chief of Staff, G-1, Washington, DC

10. GEN Christopher Cavoli, Commanding General, U.S. Army Europe, Wiesbaden, Germany

11. Dr. Juanita Christensen, Director, CCDC Aviation & Missile Center, Combat Capabilities Development Command, U.S. Army Futures Command, Redstone Arsenal, AL

12. Mr. Alexander Conyers, Deputy Assistant Secretary of the Army (Army Review Boards), Office of the Assistant Secretary of the Army (Manpower & Reserve Affairs), Washington, DC

13. GEN Edward Daly, Commanding General, U.S. Army Materiel Command, Redstone Arsenal, AL

14. Mr. John Daniels, Deputy Assistant Secretary of the Army (Plans, Programs And Resources), Office of the Assistant Secretary of the Army (Acquisition, Logistics & Technology), Washington, DC

15. Ms. Karen Durham-Aguilera, Executive Director of the Army National Cemeteries Program, Office of the Secretary of the Army, Washington, DC

16. Mr. Ryan Fisher, Principal Deputy Assistant Secretary of the Army, Office of the Assistant Secretary of the Army (Civil Works), Washington, DC

17. Dr. Elizabeth Fleming, Deputy Director, Engineer Research and Development Center, U.S. Army Corps of Engineers, Vicksburg, MS

18. LTG Charles Flynn, Deputy Chief of Staff, Office of the Deputy Chief of Staff, G-3/5/7, Washington, DC

19. Dr. Karl Friedl, Senior Research Scientist (Performance Physiology), U.S. Army Medical Command, Natick, MA

20. GEN Paul Funk, Commanding General, U.S. Army Training and Doctrine Command, Fort Eustis, VA

21. LTG Duane Gamble, Deputy Chief of Staff, Office of the Deputy Chief of Staff, G-4, Washington, DC

22. Mr. Greg Garcia, Deputy Chief Information Officer, Office of the Chief Information Officer, G-6, Washington, DC

23. GEN Michael Garrett, Commanding General, U.S. Army Forces Command, Fort Bragg, NC

24. Ms. Susan Goodyear, Deputy Chief Executive Officer, U.S. Army Futures Command, Austin, TX

25. Mr. Larry Gottardi, Director, Civilian Senior Leader Management Office, Washington, DC

26. Mr. Ross Guckert, Program Executive Officer, Enterprise Information Systems, Office of the Assistant Secretary of the Army (Acquisition, Logistics & Technology), Washington, DC

27. Mr. John Hall, Deputy to the Commanding General, U.S. Army Training and Doctrine Command, Fort Eustis, VA

28. MG David Hill, Deputy Chief of Engineers & Deputy Commanding General, U.S. Army Corps of Engineers, Washington, DC

29. Mr. Michael Hutchison, Deputy to the Commander, Surface Deployment and Distribution Command, U.S. Army Materiel Command, Scott Air Force Base, IL

30. HON R.D. James, Assistant Secretary of the Army, Office of the Assistant Secretary of the Army (Civil Works), Washington, DC

31. HON Bruce Jette, Assistant Secretary of the Army, Office of the Assistant Secretary of the Army (Acquisition, Logistics & Technology), Washington, DC

32. Dr. Marti Jett-Tilton, Senior Research Scientist (Systems Biology), U.S. Army Medical Command, Fort Detrick, MD

33. Mr. James Johnson, Deputy to the Commander, U.S. Army Space and Missile Defense Command/Army Forces Strategic Command, Huntsville, AL

34. Ms. Kathatine Kelley, Chief Human Capital Officer, U.S. Army Futures Command, Austin, TX

35. Mr. Thomas Kelly III, Deputy Under Secretary of the Army, Office of the Deputy Under Secretary of the Army, Washington, DC

36. Mr. David Kim, Director of Support, U.S. Army Intelligence and Security Command, Fort Belvoir, VA

37. Mr. Daniel Klippstein, Assistant Deputy Chief of Staff, Office of the Deputy Chief of Staff, G-9, Washington, DC

38. Mr. Michael Lacey, Deputy General Counsel (Operations and Personnel), Office of the General Counsel, Washington, DC

39. Mr. Jeffrey Langhout, Director, CCDC Ground Vehicle Systems Center, Combat Capabilities Development Command, U.S. Army Futures Command, Warren, MI

40. Mr. Alvin Lee, Director of Civil Works, U.S. Army Corps of Engineers, Washington, DC

41. Mr. Mark Lewis, Deputy to the Assistant Secretary, Office of the Assistant Secretary of the Army (Manpower and Reserve Affairs), Washington, DC

42. Mr. Stephen Loftus, Deputy Assistant Secretary of the Army (Cost and Economics), Office of the Assistant Secretary of the Army (Financial Management & Comptroller), Washington, DC

43. Mr. Christopher Lowman, Assistant Deputy Chief of Staff, Office of the Deputy Chief of Staff, G-4, Washington, DC

44. LTG Robert Marion, Principal Military Deputy, Office of the Assistant Secretary of the Army (Acquisition, Logistics & Technology), Washington, DC

45. Dr. David Markowitz, Chief Data Officer & Analytics Officer, Office of the Deputy Chief of Staff, G-8, Washington, DC

46. LTG Theodore Martin, Deputy Commanding General & Chief of Staff, U.S. Army Training and Doctrine Command, Fort Eustis, VA

47. Mr. David May, Senior Cyber Intelligence Advisor, U.S. Army Training and Doctrine Command, Fort Gordon, GA

48. Mr. Phillip McGhee, Deputy Chief of Staff for Resource Management, G8, U.S. Army Forces Command, Fort Bragg, NC

49. Ms. Kathleen Miller, Administrative Assistant to the Secretary of the Army, Office of the Administrative Assistant to the Secretary of the Army, Washington, DC

50. Mr. Jonathan Moak, Principal Deputy Assistant Secretary of the Army (Controls), Office of the Assistant Secretary of the Army (Financial Management & Comptroller), Washington, DC

51. Dr. Eric Moore, Director, Chemical and Biological Center, Combat Capabilities Development Command, U.S. Army Futures Command,, Aberdeen Proving Ground, MD

52. LTG John Morrison, Jr., Deputy Chief of Staff, Office of the Deputy Chief of Staff, G-6, Washington, DC

53. Mr. Larry Muzzelo, Deputy to the Commanding General, U.S. Army Communications-Electronics Command, U.S. Army Materiel Command, Aberdeen Proving Ground, MD

54. Mr. Levator Norsworthy, Jr., Deputy General Counsel (Acquisition), Office of the General Counsel, Washington, DC

55. Ms. Karen Pane, Director of Human Resources, U.S. Army Corps of Engineers, Washington, DC

56. MG Paul Pardew, Commanding General, U.S. Army Contracting Command, U.S. Army Materiel Command, Redstone Arsenal, AL

57. Ms. Michelle Pearce, Principal Deputy General Counsel, Office of the General Counsel, Washington, DC

58. Mr. Philip Perconti, Deputy Assistant Secretary of the Army (Research and Technology) & Chief Scientist, Office of the Assistant Secretary of the Army (Acquisition, Logistics & Technology), Washington, DC

59. Mr. Barry Pike, Director, Weapons Development and Integration, Combat Capabilities Development Command, U.S. Army Futures Command, Austin, TX

60. LTG Walter E. Piatt, Director of the Army Staff, Office of the Director of the Army Staff, Washington, DC

61. Dr. David Pittman, Director, Research and Development, U.S. Army Corps of Engineers, Vicksburg, MS

62. Mr. Ronald Pontius, Deputy to the Commanding General, U.S. Army Cyber Command, Fort Belvoir, VA

63. LTG Leopoldo Quintas, Jr., Deputy Commanding General, U.S. Army Forces Command, Fort Bragg, NC

64. Ms. Diane Randon, Assistant Deputy Chief of Staff, Office of the Deputy Chief of Staff, G-2, Washington, DC

65. Dr. Peter Reynolds, Senior Research Scientist (Physical Sciences), Combat Capabilities Development Command, U.S. Army Futures Command, Durham, NC

66. Ms. Anne Richards, The Auditor General, U.S. Army Audit Agency, Fort Belvoir, VA

67. LTG James Richardson, Deputy Commanding General, U.S. Army Futures Command, Austin, TX

68. LTG Laura Richardson, Deputy Commanding General, U.S. Army North, San Antonio, TX

69. Mr. J. Randall Robinson, Executive Deputy to the Commanding General, U.S. Army Installation and Management Command, Fort Sam Houston, TX

70. Dr. Dawn Rosarius, Principal Assistant for Acquisition, U.S. Army Medical Command, Fort Detrick, MD

71. Dr. Robert Sadowski, Senior Research Scientist (Robotics), Combat Capabilities Development Command, U.S. Army Futures Command, Warren, MI

72. Mr. Bryan Samson, Deputy to the Commanding General, U.S. Army Contracting Command, U.S. Army Materiel Command, Redstone Arsenal, AL

73. Mr. Craig Schmauder, Deputy General Counsel (Installations, Environment and Civil Works), Office of the General Counsel, Washington, DC

74. Ms. Lauri Snider, Senior Advisor (Counter Intelligence, Disclosure, and Security), Office of the Deputy Chief of Staff, G-2, Washington, DC

75. LTG Scott Spellmon, Chief of Engineers & Commanding General, U.S. Army Corps of Engineers, Washington, DC

76. Mr. Thomas Steffens, Director of Resource Management, U.S. Army Corps of Engineers, Washington, DC

77. Mr. Vance Stewart, Deputy Assistant Secretary of the Army (Management and Budget), Office of the Assistant Secretary of the Army (Civil Works), Washington, DC

78. Mr. Robin Swan, Director, Office of Business Transformation, Washington, DC

79. Mr. Roy Wallace, Assistant Deputy Chief of Staff, Office of the Deputy Chief of Staff, G-1, Washington, DC

80. HON Casey Wardynski, Jr., Assistant Secretary of the Army, Office of the Assistant Secretary of the Army (Manpower and Reserve Affairs), Washington, DC

81. Dr. Bruce West, Senior Research Scientist (Mathematical Sciences), Combat Capabilities Development Command, U.S. Army Futures Command, Durham, NC

82. Mr. Marshall Williams, Principal Deputy Assistant Secretary of the Army, Office of the Assistant Secretary of the Army (Manpower and Reserve Affairs), Washington, DC

83. Mr. John Willison, Deputy to the Commanding General, Combat Capabilities Development Command, U.S. Army Futures Command, Aberdeen Proving Ground, MD

84. Ms. Kathryn Yurkanin, Principal Deputy Chief, Office of the Chief Legislative Liaison, Washington, DC

James W. Satterwhite Jr.,
Alternate, Federal Register Liaison Officer.

[FR Doc. 2020-24890 Filed 11-9-20; 8:45 am]

BILLING CODE 5061-AP-P